ENVIRONMENTAL PROTECTION AGENCY

40 CFR Part 146

[FRL-7509-5]

Underground Injection Control Program—Revision of Underground Injection Control Requirements for Class I Municipal Wells in Florida; Notice of Meeting

AGENCY: Environmental Protection Agency (EPA).

ACTION: Notice.

SUMMARY: On May 5, 2003, the Environmental Protection Agency published two notices in the Federal Register. The first announced the Notice of Availability (NOA) (68 FR 23673) of EPA's “Relative Risk Assessment of Management Options for Treated Wastewater in South Florida” and the second announced the Notice of Data Availability (NODA) (68 FR 23666) which summarizes information from the relative risk assessment and solicits public comment on how the deep well injection findings should inform the final determination on the July 7, 2000 proposed rule, Revision to the Federal Underground injection Control (UIC) requirements for Class I Municipal Wells in Florida (65 FR 42234). This notice announces two (2) public meetings on the NODA.

DATES: The meeting dates are: June 24, 2003, 6 p.m. to 9 p.m., West Palm Beach, Florida; and June 25, 2003, 6 p.m. to 9 p.m., Tampa, Florida.

ADDRESSES: For additional information see the SUPPLEMENTARY INFORMATION section of this Federal Register. The meeting locations are: Florida Department of Environmental Protection, Southeast District, Public Meeting Room, 2nd Floor, 400 N. Congress Ave., West Palm Beach, Florida 33401; and Tampa Marriott Waterside Hotel, 700 South Florida Avenue; Tampa, FL 33602.

FOR FURTHER INFORMATION CONTACT: For inquiries, and/or to access the risk assessment report, contact Nancy H. Marsh, Ground Water & UIC Section, EPA Region 4, 61 Forsyth Street, SW, Atlanta, GA 30303 (phone: (404) 562-9450; E-mail: marsh.nancy@epa.gov) or Howard Beard, Office of Ground Water and Drinking Water, U.S. Environmental Protection Agency, EPA East, 1200 Pennsylvania Ave., NW., Mail Code 4606M, Washington, DC 20460 (phone: (202) 564-3874; E-mail: beard.howard@epa.gov) or contact the Safe Drinking Water Hotline, phone (800) 426-4791. The Safe Drinking Water Hotline is open Monday through Friday, excluding Federal holidays, from 9 a.m. to 5:30 p.m. Eastern daylight-saving time.

SUPPLEMENTARY INFORMATION: Comments may be given orally or in writing at the public meeting. If giving written comments please submit an original and three copies of your comments and enclosures (including any references). Comments should be limited to those issues discussed in the NODA and not the entire “Relative Risk Assessment of Management Options for Treated Wastewater in South Florida.” Written comments may also be mailed to Nancy H. Marsh at the address in the For Further Information Contact section. The public comment period ends July 7, 2003.

Dated: May 30, 2003.
James D. Giattina,
Director, Water Management Division, Region 4.

[FR Doc. 03-14321 Filed 6-5-03; 8:45 am]

BILLING CODE 6560-50-P